FEDERAL COMMUNICATIONS COMMISSION

47 CFR Part 73

[DA 00-2604, MM Docket No. 00-87, RM-9870, RM-9961]

Radio Broadcasting Services; Brightwood, Madras, Bend and Prineville, OR

AGENCY: Federal Communications Commission.

ACTION: Proposed rule.

SUMMARY: The Commission, in response to the counterproposal of Madras Broadcasting requesting the allotment of Channel 251C1 to Madras, OR, as the community's first local aural service, issues an Order to Show Cause to the licensee of Station KTWS(FM), Channel 252C3, Bend, OR, as to why its license should not be modified to specify operation on Channel 253C3. The counterproposal was filed in response to the proposed allotment of Channel 251C3 to Brightwood, OR. See 65 FR 34997, June 1, 2000. See SUPPLEMENTARY INFORMATION.

DATES: Comments must be filed on or before January 8, 2001.

ADDRESSES: Federal Communications Commission, 445 12th Street, S.W., Room TW-A325, Washington, DC 20554.

FOR FURTHER INFORMATION CONTACT: Leslie K. Shapiro, Mass Media Bureau, (202) 418-2180.

SUPPLEMENTARY INFORMATION: This is a synopsis of the Commission's Order to Show Cause, MM Docket No. 00-87, adopted November 8, 2000, and released November 17, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036. The Commission proposes the following channel changes to accommodate the allotment of Channel 251C1 to Madras, OR, at coordinates 44-50-02 NL; 120-45-55 WL: (1) the substitution of Channel 253C3 for Channel 252C3 at Bend, OR, at coordinates 44-04-41 NL; 121-19-57 WL, and the modification of Station KTWS(FM)'s license accordingly; (2) the substitution of Channel 255C3 for unoccupied and unapplied-for Channel 254C3 at Prineville, OR, at coordinates 44-13-30 NL; 120-46-30 WL.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Oregon, is amended by adding Madras, Channel 251C1, by adding Channel 253C3 and removing Channel 252C3 at Bend, and adding Channel 255C3 and removing Channel 254C3 at Prineville.

Federal Communications Commission.
John A. Karousos,
Chief, Allocations Branch, Policy and Rules Division, Mass Media Bureau.

[FR Doc. 00-30366 Filed 11-28-00; 8:45 am]

BILLING CODE 6712-01-P